DEPARTMENT OF THE INTERIOR

Bureau of Land Management

[NV-030-1430-ES; N-57063; 8-08807; TAS:14X1109]

Notice of Realty Action: Recreation and Public Purposes Act Classification of Public Land in Washoe County, NV

AGENCY: Bureau of Land Management, Interior.

ACTION: Notice of Realty Action.

SUMMARY: Recreation and Public Purposes (R&PP) Act request for lease and subsequent conveyance of approximately 265 acres of public land in Washoe County, Nevada. The City of Sparks proposes to use the land for a regional park.

DATES: Interested parties may submit written comments regarding the proposed lease/conveyance or classification of the land until March 3, 2008.

ADDRESSES: Mail written comments to the BLM Field Manager, Carson City Field Office, 5665 Morgan Mill Road, Carson City, NV 89701.

FOR FURTHER INFORMATION CONTACT: Jo Ann Hufnagle, (775) 885-6000.

SUPPLEMENTARY INFORMATION: In accordance with section 7 of the Taylor Grazing Act, (43 U.S.C. 315f), and Executive Order No. 6910, the following described public land in Washoe County, Nevada, has been examined and found suitable for classification for lease and subsequent conveyance under the provisions of the R&PP Act, as amended, (43 U.S.C. 869 et seq.):

Mount Diablo Meridian, Nevada

T. 20 N., R. 20 E.,

Sec. 28, lots 15-16, 21-24, 26, 29, 31-32 (southerly portion), 36-37, SW¼NE¼, and SE¼.

The area described contains 265 acres, more or less.

Note: This description and acreage may be modified prior to lease or conveyance upon final approval of an official plat of survey which will involve amended lotting of a portion of the public land. A map depicting the public land is available for review at the Carson City Field Office.

In accordance with the R&PP Act, the City of Sparks has filed an R&PP application to develop the above described land as a regional park. Additional detailed information pertaining to this application, including a plan of development, is available for review in the BLM Carson City Field Office.

The land is not needed for Federal purposes. The lease or conveyance is consistent with the Carson City Consolidated Resource Management Plan (2001) and would be in the public interest. The land was previously withdrawn from surface entry and mining, but not from sales, exchanges or recreation and public purposes, by Public Land Order No. 7491. Upon publication of this Notice of Realty Action and until completion of the sale, the BLM is no longer accepting land use applications affecting the identified public land, except applications for the amendment of previously filed right-of-way applications or existing authorizations for the amendment to increase the term of the grants in accordance with 43 CFR 2807.15 and 2886.15. The lease/conveyance, when issued, will be subject to the provisions of the R&PP Act and applicable regulations of the Secretary of the Interior, and will contain the following reservations to the United States:

1. A right-of-way thereon for ditches or canals constructed by the authority of the United States, Act, of August 30, 1890 (43 U.S.C. 945);

2. All minerals shall be reserved to the United States, together with the right to prospect for, mine and remove such deposits from the same under applicable law and such regulations as the Secretary of the Interior may prescribe; and will be subject to:

1. Valid existing rights;

2. Those rights for telephone/communication line purposes granted to Nevada Bell, and its successors or assigns, by Right-of-Way Nev-044106 under the Act of March 4, 1911 (36 Stat. 1253, 43 U.S.C. 961);

3. Those rights for highway purposes granted to Nevada Department of Transportation, and its successors or assigns, by Right-of-Way Nev-047623 under the Act of August 27, 1958 (72 Stat. 916, 23 U.S.C. 317(A));

4. Those rights for electric line purposes granted to Sierra Pacific Power Company, and its successors or assigns, by Rights-of-Way Nev-058664, Nev-061608, Nev-061913, and Nev-066906 under the Act of March 4, 1911 (36 Stat. 1253, 43 U.S.C. 961);

5. Those rights for gas pipeline purposes granted to Southwest Gas Corporation, and its successors or assigns, by Right-of-Way Nev-058689 under the Act of February 25, 1920 (41 Stat. 0437, 30 U.S.C. 185, sec. 28);

6. Those rights for electric line purposes granted to Sierra Pacific Power Company, and its successors or assigns, by Rights-of-Way CC-025152, N-30813, and N-57069 under the Act of October 21, 1976 (90 Stat. 2776, 43 U.S.C. 1761);

7. Those rights for gas pipeline purposes granted to Paiute Pipeline/Southwest Gas Corporation, and its successors or assigns, by Right-of-Way N-24960 under the Act of February 25, 1920 (41 Stat. 0437, 30 U.S.C. 185, sec. 28);

8. Those rights for gas pipeline purposes granted to Sierra Pacific Power Company, and its successors or assigns, by Rights-of-Way N-46826 and N-48540 under the Act of February 25, 1920 (41 Stat. 0437, 30 U.S.C. 185, sec. 28);

9. Those rights for road and utility purposes granted to Rocky Ridge Homeowners Association, and its successors or assigns, by Right-of-Way N-48126 under the Act of October 21, 1976 (90 Stat. 2776, 43 U.S.C. 1761);

10. Those rights for telephone/communication line purposes granted to Nevada Bell, and its successors or assigns, by Right-of-Way N-49737 under the Act of October 21, 1976 (90 Stat. 2776, 43 U.S.C. 1761);

11. Those rights for water facilities granted to Truckee Meadows Water Authority, and its successors or assigns, by Rights-of-Way N-49752 and N-61317 under the Act of October 21, 1976 (90 Stat. 2776, 43 U.S.C. 1761);

12. Those rights for cable television facilities granted to Falcon Cable Systems, and its successors or assigns, by Right-of-Way N-51490 under the Act of October 21, 1976 (90 Stat. 2776, 43 U.S.C. 1761);

13. Those rights for road and utility purposes granted to the City of Sparks, and its successors or assigns, by Right-of-Way N-77216 under the Act of October 21, 1976 (90 Stat. 2776, 43 U.S.C. 1761);

14. Those rights for access road purposes granted to George G. Boyce, and his successors or assigns, by Right-of-Way N-78415 under the Act of October 21, 1976 (90 Stat. 2776, 43 U.S.C. 1761).

Interested parties may submit comments involving the suitability of the land for regional park purposes. Comments on the classification are restricted to whether the land is physically suited for the proposal, whether the use will maximize the future use or uses of the land, whether the use is consistent with local planning and zoning, or if the use is consistent with State and Federal programs.

Interested parties may submit comments regarding the specific use proposed in the application and plan of development, whether the BLM followed proper administrative procedures in reaching the decision to lease/convey under the R&PP Act, or any other factor not directly related to the suitability of the land for R&PP use.

Before including your address, phone number, e-mail address, or other personal identifying information in your comment, you should be aware that your entire comment—including your personal identifying information—may be made publicly available at any time. While you can ask us in your comment to withhold your personal identifying information from public review, we cannot guarantee that we will be able to do so. Only written comments submitted by postal service or overnight mail to the Field Manager, BLM Carson City Field Office, will be considered properly filed. Electronic mail, facsimile, or telephone comments will not be considered properly filed.

Any adverse comments will be reviewed by the BLM Nevada State Director, who may sustain, vacate, or modify this realty action. In the absence of any adverse comments, the classification of the land described in this notice will become effective on March 17, 2008. The land will not be available for lease/conveyance until after the classification becomes effective.

(Authority: 43 CFR 2741.5)

Dated: January 9, 2008.
Don Hicks,
Carson City Field Office Manager.

[FR Doc. E8-756 Filed 1-16-08; 8:45 am]

BILLING CODE 4310-HC-P